FEDERAL COMMUNICATIONS COMMISSION

Notice of Public Information Collection(s) Being Submitted for Review to the Office of Management and Budget

July 25, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 9, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, Washington, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0454.

Title: Regulation of International Accounting Rates.

Form No.: N/A.

Type of Review: Revision of a currently approved collection.

Respondents: Business or other for-profit.

Number of Respondents: 5 respondents; 41 responses.

Estimated Time Per Response: 1 hour per requirement.

Frequency of Response: On occasion reporting requirement.

Total Annual Burden: 205 hours.

Total Annual Cost: $2,200.

Privacy Act Impact Assessment: Yes.

Needs and Uses: The Commission is revising this collection by mandating electronic filing. This will eliminate paper filings and requires applicants to file electronically all applications and other filings related to international telecommunications services via the user-friendly, Internet-based International Bureau Filing System (IBFS).

Additionally, the Commission plans to develop two new accounting rate change applications that impact this information collection. We do not know the specific time frame for the development of each application. However, the estimated completion date for the applications is December 31, 2008. The development of the applications is contingent upon the availability of budget funds, human resources and other factors. The annual burden hours and costs are unknown at this time because the forms have not been developed by the Commission yet.

Federal Communications Commission.
Marlene H. Dortch,
Secretary.

[FR Doc. 05-15429 Filed 8-9-05; 8:45 am]

BILLING CODE 6712-01-P